DEPARTMENT OF TRANSPORTATION

Federal Transit Administration

Intent To Prepare an Environmental Impact Statement for Proposed Transit Improvements in the Crenshaw-Prairie Transit Corridor, Los Angeles, CA

AGENCY: Federal Transit Administration, DOT.

ACTION: Notice of intent to prepare an environmental impact statement.

SUMMARY: The Federal Transit Administration (FTA) and the Los Angeles County Metropolitan Transportation Authority (LACMTA) intend to prepare an Environmental Impact Statement (EIS) for the proposed Crenshaw-Prairie Transit Corridor Project. The proposed project would provide for transit improvements within the Crenshaw-Prairie Corridor, which extends approximately 10 miles from Wilshire Boulevard on the north to El Segundo Boulevard on the south.

The study area for the project includes portions of five jurisdictions: the Cities of Los Angeles, Inglewood, Hawthorne, El Segundo, as well as portions of unincorporated Los Angeles County, California. The study area is generally defined as the area extending north to Wilshire Boulevard, east to Arlington Avenue, south to El Segundo Boulevard, and west to Sepulveda and La Tijera Boulevards. A variety of land uses exist within the study area including single- and multi-family residences and commercial uses north of the Interstate 10 (I-10) freeway and south of Slauson Avenue, commercial uses along Crenshaw Boulevard and in Hawthorne, industrial and public land uses in Inglewood and El Segundo, as well as redevelopment areas in Los Angeles, Inglewood, and Hawthorne.

The EIS will be prepared in accordance with the requirements of the National Environmental Policy Act (NEPA) and its implementing regulations. The Draft EIS will be combined with the planning Alternatives Analysis required by 49 U.S.C. 5309 for New Starts-funded projects. LACMTA will also use the EIS document to comply with the California Environmental Quality Act (CEQA), which requires an Environmental Impact Report (EIR). The purpose of this notice is to alert interested parties regarding the intent to prepare the EIS, to provide information on the nature of the proposed project and possible alternatives, to invite public participation in the EIS process (including providing comments on the scope of the Alternatives Analysis/Draft Environmental Impact Statement (AA/DEIS), to announce that public scoping meetings will be conducted, and to identify participating and cooperating agency contacts.

DATES: Written comments on the scope of the EIS, including the project's purpose and need, the alternatives to be considered, the impacts to be evaluated, and the methodologies to be used in the evaluations should be sent to LACMTA on or before November 5, 2007 at the address below. See ADDRESSES below for the address to which written public comments may be sent. Public scoping meetings to accept comments on the scope of the EIS/EIR will be held on the following dates:

• Monday, October 15, 2007, from 6 p.m. to 8 p.m., at Darby Park, 3400 W. Arbor Vitae Street, Inglewood, CA 90305.

• Wednesday, October 17, 2007, from 6 p.m. to 8 p.m., at Nate Holden Performing Arts Center, 4718 W. Washington Boulevard, Los Angeles, CA 90016.

• Saturday, October 20, 2007, from 9 a.m. to 11 a.m., at Audubon Middle School, 4120 11th Avenue, Los Angeles, CA 90008.

The project's purpose and need, and the initial set of alternatives proposed for study will be presented at these meetings. The buildings used for the scoping meetings are accessible to persons with disabilities. Any individual who requires special assistance, such as a sign language interpreter, to participate in a scoping meeting should contact Ms. Susan Gilmore, Los Angeles County Metropolitan Transportation Authority (LACMTA) at 213-922-7287, or gilmores@metro.net.

Scoping materials will be available at the meetings and are available on the LACMTA Web site (www.metro.net/crenshaw). Hard copies of the scoping materials may also be obtained from Ms. Susan Gilmore, Los Angeles County Metropolitan Transportation Authority (LACMTA) at 213-922-7287, or gilmores@metro.net. An interagency scoping meeting will be held on Tuesday, October 16, 2007 from 1 p.m. to 3 p.m. at LACMTA, One Gateway Plaza (Gateway Conference Room, 3rd Floor), Los Angeles, CA 90012.

ADDRESSES: Written comments should be sent to Mr. Alan Patashnick, Project Manager and Director of South Bay Area Team, Los Angeles County Metropolitan Transportation Authority, One Gateway Plaza, Mail Stop: 99-22-3, Los Angeles, California 90012, e-mail address patashnickalan@metro.net. The locations of the public scoping meetings are given above under DATES.

FOR FURTHER INFORMATION CONTACT: Mr. Ray Tellis, Team Leader, Los Angeles Metropolitan Office, Federal Transit Administration, 888 South Figueroa Street, Suite 1850, Los Angeles, CA 90017, phone (213) 202-3950, e-mail ray.tellis@dot.gov.

SUPPLEMENTARY INFORMATION:

Scoping

The FTA and LACMTA invite all interested individuals and organizations, public agencies, and Native American Tribes to comment on the scope of the EIS, including the project's purpose and need, the alternatives to be studied, the impacts to be evaluated, and the evaluation methods to be used. Comments should focus on: Alternatives that may be less costly or have less environmental or community impacts while achieving similar transportation objectives, and the identification of any significant social, economic, or environmental issues relating to the alternatives.

Purpose and Need for the Project

The project purpose is to improve public transit service and mobility in the Crenshaw-Prairie Corridor between Wilshire and El Segundo Boulevards. The overall goal of the proposed project is to improve mobility in the corridor by connecting with existing lines such as the Metro Green Line or approved transit lines, such as the Exposition Light Rail Transit (LRT) Line (under construction). The proposed project is included in the current LACMTA Long-Range Transportation Plan and in the Southern California Association of Governments' 2004 Regional Transportation Plan (http://www.scag.ca.gov/rtp2004/2004/Final/07RTPProjectList.xls).

Mobility issues in this corridor have been well documented in many studies, including the Crenshaw-Prairie Corridor Preliminary Planning Study (1994), the Route Refinement Study (2000), and the Major Investment Study (MIS) (2003). These reports are available for review on the LACMTA Web site (http://www.metro.net/crenshaw). Additional considerations supporting the project's need include:

• Several major activity centers and destinations are concentrated in the Crenshaw-Prairie Corridor including Los Angeles International Airport (LAX); the Great Western Forum; Hollywood Park; the commercial centers in Koreatown, the Crenshaw District, and downtown Inglewood; as well as office developments on Wilshire Boulevard and in downtown Inglewood and El Segundo.

• The MIS established that a north-south, high-capacity transportation connection is needed west of downtown Los Angeles and the Interstate 110 (I-110) freeway.

• The “Centers Concept” Land Use Policy in the Los Angeles Basin supports the development of high capacity transit corridors connecting the Centers, including Los Angeles, Inglewood, and LAX.

• The Crenshaw-Prairie Corridor's existing bus routes are some of the most productive and highest used.

• The Crenshaw-Prairie Corridor's transportation capacity needs to be increased to serve growth, without increasing mobile source ozone emissions in this air quality nonattainment area.

• The Crenshaw-Prairie Corridor currently has a high concentration of transit-supportive land uses and has high densities of both population and employment.

• Substantial numbers of transit-dependent persons reside in the Crenshaw-Prairie Corridor.

• Significant population and employment growth is projected for the Crenshaw-Prairie Corridor.

• Existing and future travel demand patterns demonstrate a strong and growing need for high-capacity transit in the Crenshaw-Prairie Corridor.

• Local policy direction is focused on travel demand management and transit solutions, rather than expansion of the roadway network.

The public and participating and cooperating agencies are invited to consider and comment on this preliminary statement of the purpose and need for the proposed project.

Alternatives

In addition to a No-Build Alternative, a range of reasonable alternatives will be evaluated in the EIS/EIR including, but not limited to, alternative transit technologies, alignments, operating plans, station locations, and a Transportation Systems Management (TSM) Alternative. The transit technologies to be evaluated, in addition to the No-Build and TSM Alternatives, will include Bus Rapid Transit (BRT), Light Rail Transit (LRT), and any other reasonable alternatives identified during scoping for the project.

The primary alignments to be initially considered include:

Wilshire/Crenshaw/Metro Green Line: This alternative alignment would extend south along Crenshaw Boulevard from Wilshire Boulevard through Koreatown, the Crenshaw District, and downtown Inglewood. From Crenshaw Boulevard, the alignment would turn southwest along the LACMTA owned Harbor Subdivision railroad right-of-way, adjacent to Florence Avenue, and continue south to the existing Metro Green Line Aviation Station. A transfer connection would be provided to LAX from the Aviation Station.

Exposition/Crenshaw/Metro Green Line: This alignment alternative would extend from the Exposition LRT Line (under construction) south along Crenshaw Boulevard, through the Crenshaw District and downtown Inglewood. From Crenshaw Boulevard, the alignment would turn southwest onto the Harbor Subdivision railroad right-of-way, adjacent to Florence Avenue, and continue south to the existing Metro Green Line Aviation Station. A transfer connection would be provided to LAX from the Aviation Station.

Wilshire/Crenshaw/La Brea/Hawthorne: This alignment alternative would extend south along Crenshaw Boulevard from Wilshire Boulevard to the Harbor Subdivision railroad right-of-way in Inglewood. From the right-of-way, the alignment would travel south along La Brea Avenue to Hawthorne Boulevard.

Exposition/Crenshaw/Prairie/Hawthorne: This alignment alternative would extend south from the Exposition LRT Line (under construction) along Crenshaw Boulevard to the Harbor Subdivision railroad right-of-way. From the right-of-way, the alignment would turn south along Prairie Avenue, turn west to connect to the existing Metro Green Line Hawthorne Station along the I-105 freeway, and continue south along Hawthorne Boulevard.

The transit alternatives to be considered include:

Bus Rapid Transit Alternative: This alternative would utilize BRT and operate via the Wilshire/Crenshaw/Metro Green Line or Wilshire/La Brea/Hawthorne alignments described above.

Light Rail Transit Alternative: This alternative would utilize LRT and operate via the Exposition/Crenshaw/Metro Green Line or Exposition/Crenshaw/Prairie/Hawthorne alignments described above.

No Build Alternative: This alternative includes the committed highway and transit projects in the current LACMTA Long Range Transportation Plan and the 2030 Southern California Association of Governments' Regional Transportation Plan. For purposes of this EIS and comparison of alternatives, the major fixed-guideway investments under study for the Exposition Phase 2 and Westside Extension transit corridors are not included in the No-Build Alternative. The completion of the Metro Rapid Bus Program is included as well as possible additional feeder bus networks to serve the region's major activity centers.

Transportation System Management (TSM) Alternative: The TSM alternative enhances the No Build Alternative and emphasizes transportation system upgrade, such as intersection improvements, minor road widening, traffic engineering actions, bus route restructuring, shortened bus headways, expanded use of articulated buses, reserved bus lanes, expanded park/ride facilities, express and limited-stop service, signalization improvements, and timed-transfer operations.

In addition to the alternatives described above, other transit alternatives identified through the public and agency scoping process will be evaluated for potential inclusion in the EIS.

Probable Effects

The purpose of the EIS process is to explore, in a public setting, the effects of the proposed project and its alternatives on the physical, human, and natural environment. The FTA and LACMTA will evaluate all significant environmental, social, and economic impacts of the construction and operation of the proposed project. Impact areas to be addressed include: Transportation; land use, zoning and economic development; secondary development; land acquisition, displacements and relocations; cultural resources (including historical, archaeological, and paleontological resources) and parklands/recreation areas; neighborhood compatibility and environmental justice; visual and aesthetic impacts; natural resources (including air quality, noise and vibration, wetlands, water resources, geology/soils, and hazardous materials); energy use; safety and security; and wildlife and ecosystems (including endangered species). Measures to avoid, minimize, and mitigate all adverse impacts will be identified and evaluated.

FTA Procedures

The regulations implementing NEPA, as well as provisions of the Safe, Accountable, Flexible, Efficient Transportation Equity Act: A Legacy for Users (SAFETEA-LU), call for public involvement in the EIS process. Section 6002 of SAFETEA-LU requires that FTA and LACMTA do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American tribes that may have an interest in the proposed project. It is possible that FTA and LACMTA will not be able to identify all Federal and non-Federal agencies and Native American tribes that may have such an interest. Any Federal or non-Federal agency or Native American tribe interested in the proposed project that does not receive an invitation to become a participating agency should notify at the earliest opportunity the Project Manager identified above under ADDRESSES.

A comprehensive public involvement program and a Coordination Plan for public and interagency involvement will be developed for the project and posted on LACMTA's Web site (Crenshaw-Prairie Transit Corridor Project Web page: http://www.metro.net/crenshaw). The public involvement program includes a full range of activities including the project webpage on the LACMTA Web site, development and distribution of project newsletters, and outreach to local officials, community and civic groups, and the public. Specific activities or events for involvement will be detailed in the public involvement program.

LACMTA may seek New Starts funding for the proposed project under 49 United States Code 5309 and will, therefore, be subject to New Starts regulations (49 Code of Federal Regulations (CFR) Part 611). The New Starts regulation requires a planning Alternatives Analysis that leads to the selection of a Locally Preferred Alternative and the inclusion of this alternative in the long-range transportation plan adopted by the LACMTA and Southern California Association of Governments. LACMTA plans to develop the Draft EIS/EIR to satisfy the required planning Alternatives Analysis. The New Starts regulations also require the submission of certain project-justification information to support a request to initiate preliminary engineering. This information is normally developed in conjunction with the NEPA process. Pertinent New Starts evaluation criteria will be included in the EIS.

The EIS will be prepared in accordance with NEPA and its implementing regulations issued by the Council on Environmental Quality (40 CFR Parts 1500-1508) and with the FTA/Federal Highway Administration regulations “Environmental Impact and Related Procedures” (23 CFR part 771). In accordance with 23 CFR 771.105(a) and 771.133, FTA will comply with all Federal environmental laws, regulations, and executive orders applicable to the proposed project during the environmental review process to the maximum extent practicable. These requirements include, but are not limited to, the environmental and public hearing provisions of Federal transit laws (49 U.S.C. 5301(e), 5323(b), and 5324); the project-level air quality conformity regulation of the U.S. Environmental Protection Agency (EPA) (40 CFR Part 93); the Section 404(b)(1) guidelines of EPA (40 CFR Part 230); the regulation implementing Section 106 of the National Historic Preservation Act (36 CFR Part 800); the regulation implementing Section 7 of the Endangered Species Act (50 CFR Part 402); Section 4(f) of the Department of Transportation Act (23 CFR 771.135); and Executive Orders 12898 on environmental justice, 11988 on floodplain management, and 11990 on wetlands.

Issued on: September 27, 2007.
Leslie T. Rogers,
Regional Administrator, Federal Transit Administration, Region IX.

[FR Doc. E7-19415 Filed 10-1-07; 8:45 am]

BILLING CODE 4910-57-P